DEPARTMENT OF THE INTERIOR

Bureau of Land Management

[LLCAD08000.L12200000.DS0000.15XL1109AF.LXSSB0010000]

Notice of Availability of the Draft Supplemental Environmental Impact Statement and Draft Plan Amendment to the California Desert Conservation Area Plan in the West Mojave Planning Area, Inyo, Kern, Los Angeles and San Bernardino Counties, CA

AGENCY: Bureau of Land Management, Interior.

ACTION: Notice.

SUMMARY: In accordance with the National Environmental Policy Act of 1969, as amended, and the Federal Land Policy and Management Act of 1976, as amended, the Bureau of Land Management (BLM) has prepared a Draft Land Use Plan Amendment and Draft Supplemental Environmental Impact Statement (SEIS) for the West Mojave Route Network Project (WMRNP) for the West Mojave (WEMO) Planning Area of the California Desert Conservation Area (CDCA) and by this notice is announcing the opening of the comment period.

DATES: To ensure that comments will be considered, the BLM must receive written comments on the Draft Land Use Plan Amendment/Draft Supplemental EIS within 90 days following the date the Environmental Protection Agency publishes its notice of the Draft Land Use Plan Amendment/Draft SEIS in the Federal Register. The BLM will announce future meetings or hearings and any other public participation activities at least 15 days in advance through public notices, media releases, and/or mailings.

ADDRESSES: You may submit comments related to the WMRNP by any of the following methods:

• Web site: http://www.blm.gov/ca/st/en/fo/cdd/west_mojave__wemo.html.

• Email: cawemopa@blm.gov.

• Fax: 951-697-5299; Attn: WMRNP Plan Amendment.

• Mail: Bureau of land Management, California Desert District, Attn: WMRNP Plan Amendment, 22835 Calle San Juan de Los Lagos, Moreno Valley, CA 92553

Copies of the WMRNP Draft Plan Amendment and Draft Supplemental EIS are available in the California Desert District Office at the above address; the Ridgecrest Field Office, 300 S. Richmond Rd., Ridgecrest, CA 93555; and the Barstow Field Office, 2601 Barstow Road, Barstow CA 92311. Copies are also available online at the above address.

FOR FURTHER INFORMATION CONTACT: Edy Seehafer, WMRNP Manager, telephone 760-252-6021; address 2601 Barstow Road, Barstow, CA 92311; email eseehafe@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The West Mojave Route Network Project (WMRNP) will adopt transportation and travel strategy and designate routes on public lands in the WEMO Planning Area. The WEMO Planning Area covers 9.4 million acres of the CDCA in the western portion of the Mojave Desert in southern California, including parts of San Bernardino, Los Angeles, Kern, and Inyo Counties. The WMRNP applies to the 3.1 million acres of public lands within the WEMO Planning Area. In March, 2006, the BLM signed the Record of Decision (ROD) for the WEMO Plan/Amendment to the CDCA Plan. In January 2011, the U.S. District Court for the Northern District of California partially remanded the 2006 WEMO Plan Amendment ROD to the BLM and directed the BLM to amend the CDCA Plan for travel management and reconsider route designation throughout the WEMO Planning Area, as well as other specified issues in the 2006 WEMO Plan (Center for Biological Diversity v. US Bureau of Land Management Order Re: Remedy [N.D. Cal. Jan 28, 2011]). The Court's decision identified issues with (1) the invalidation of the “decision tree” instrument used to evaluate and designate routes, (2) the authorization of OHV routes that were not in existence in 1980, which was inconsistent with the governing land use plan, (3) the lack of a reasonable range of alternatives to the proposed action, including an inadequate discussion of the No Action alternative, and (4) the inadequate analysis of impacts from the route network and the grazing program to specific resource values, including soils, cultural resources, certain biological resources, and air quality.

On September 13, 2011, the BLM issued a Notice of Intent (amended May 13, 2013), inviting comments on the proposed scope and content of the WMRNP. The WMRNP includes a land-use plan amendment to the California Desert Conservation Area (CDCA) Plan for Livestock Grazing, Recreation, and Motor Vehicle Access Elements for the WEMO Planning Area, an associated travel management framework, and activity-plan level route designations and implementation strategies. The lands covered in the WMRNP are those that are within livestock grazing allotments or designated as “Limited” to designated routes for motorized access. Areas “Closed” to motorized access are not proposed for change in this plan amendment, and are not within the scope of the planning effort.

The 9.4 million-acre WEMO Planning Area includes several large Department of Defense facilities covering almost 3 million acres, a portion of one National Park, 3 million acres of private lands, and approximately 100,000 acres of State lands, including Red Rock Canyon State Park. The planning area is also adjacent to three other National Parks/Preserves and four National Forests. Much of the planning area is managed as part of the BLM's National Landscape Conservation System, including 18 wilderness areas, three wilderness study areas and portions of the Pacific Crest Trail and the Old Spanish National Historic Trail. The planning area also includes 41 Areas of Critical Environmental Concern (ACECs), seven National Register Archaeological or Historic Districts, and four Critical Habitat Units for the federally-listed desert tortoise. Four of the ACECs were established as Desert Wildlife Management Areas (DWMAs), covering most of the desert tortoise critical habitat units, for the express purpose of conservation of desert tortoise.

The planning area also includes eight OHV Open Areas covering 271,661 acres. No changes are proposed to these OHV Open Areas or their boundaries; however, the OHV Open Areas provide major points of ingress to and egress from adjacent areas “Limited” to designated routes access public lands.

The BLM used a public scoping process to determine relevant issues, impacts, and possible alternatives that could influence the scope of the environmental analysis, and to help guide the agency from plan level decision-making to route designation in order to comply with the court order.

The public raised the following transportation and travel management concerns:

• The need for a good inventory and accurate information related to the existing environment;

• documentation and use of the regulatory criteria for route minimization;

• mitigation for loss of access;

• sensitive resource protection;

• maintenance of access for various types of recreational, scientific and other uses;

• access to private lands;

• trespass;

• regional connectivity;

• improving GIS and on-the-ground information for the public; and

• other implementation strategies such as signing, monitoring and law enforcement.

In addition, a substantial number of comments indicated issues and needs associated with specific routes and route areas in the WEMO transportation system, and included recommendations on the designation of specific routes. A few comments were also received on grazing issues and the scope of the supplemental grazing program analysis.

In response to court concerns and on-the-ground changes since 2006, NEPA considerations focused on cumulative effects of the transportation system alternatives to resource values, particularly air quality, soils, cultural resources, certain biological resources, and certain sensitive species, cumulative effects of grazing, and potential cumulative loss of recreational access opportunities. In response to public input, access considerations focused on maintaining a viable transportation network, diverse recreational opportunities, providing access for specific users, (including rock-hounders, motorcyclists, scientific and educational activities, and non-motorized users), dealing with conflicts between users, and maintaining commercial access needs.

Plan amendments would address specific CDCA Plan inconsistencies with regulation and BLM policies in the WEMO Planning Area; including amending language that limits the route network to routes that existed in 1980 and travel management guidance for route designations. Changes are proposed to the existing land-use plan to address stopping, parking, and camping adjacent to routes in Limited Access Areas within the WEMO Planning Area, and to establish a regional minimization strategy for the travel route network. Changes are also proposed to the grazing program that would reallocate forage from livestock use to wildlife use and ecosystem function in desert tortoise habitat for inactive allotments or allotments that become vacant. In addition, the Draft considers plan level decisions modifying motorized use on four specific lakebeds, including Cuddeback Lake and competitive motorized use of routes. The Draft also considers various travel management implementation frameworks. Four alternatives are evaluated, including a No Action alternative.

Finally, the Draft includes activity-level specific route designation alternatives, based on the 43CFR 8342.1 criteria and different thresholds for minimization or closure. The preferred alternative would designate approximately 10,300 miles of routes within the WEMO Planning Area as available for motorized use, approximately130 miles of routes would be available for either non-motorized or non-mechanized use, and approximately 4,400 miles of routes would be closed.

The preferred alternative also includes a regional mitigation strategy that would limit the extent of off-route stopping and parking throughout the planning area to minimize impacts to undisturbed habitat, enhance watersheds, and protect adjacent sensitive resources. Other measures are based on proximity to sensitive resources, such as riparian systems, that would enhance these resources throughout the planning area.

The preferred alternative provides for a limited number of designated camping and staging areas to direct intensive use to manageable locations. Finally, the preferred alternative proposes an integrated, community-based implementation strategy that addresses outreach, compliance and enforcement strategy in which partnerships with adjacent communities, users, local Friends and other interest groups, national and State recreational and conservation coalitions, and other interested citizens are a central component.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can request to withhold your personal identifying information from public review, BLM cannot guarantee that we will be able to do so.

Authority: 40 CFR 1506.6, 40 CFR 1506.10, 43 CFR 1610.2.

Thomas Pogacnik,
Deputy State Director, Natural Resources.

[FR Doc. 2015-05127 Filed 3-5-15; 8:45 am]

BILLING CODE 4310-40-P